Title 3—

The President

Proclamation 8158 of June 28, 2007

Suspension of Entry as Immigrants and Nonimmigrants of Persons Responsible for Policies and Actions That Threaten Lebanon's Sovereignty and Democracy

By the President of the United States of America

A Proclamation

In order to foster democratic institutions in Lebanon, to help the Lebanese people preserve their sovereignty and achieve their aspirations for democracy and regional stability, and to end the sponsorship of terrorism in Lebanon, it is in the interest of the United States to restrict the international travel, and to suspend the entry into the United States, as immigrants or nonimmigrants, of aliens who deliberately undermine or harm Lebanon's sovereignty, its legitimate government, or its democratic institutions, contribute to the breakdown in the rule of law in Lebanon, or benefit from policies or actions that do so, including through the sponsorship of terrorism, politically motivated violence and intimidation, or the reassertion of Syrian control in Lebanon.

NOW, THEREFORE, I, GEORGE W. BUSH, President of the United States of America, by the authority vested in me by the Constitution and the laws of the United States, including section 212(f) of the Immigration and Nationality Act of 1952, 8 U.S.C. 1182(f), and section 301 of title 3, United States Code, hereby find that the unrestricted immigrant and nonimmigrant entry into the United States of persons described in section 1 of this proclamation would, except as provided for in sections 2 and 3 of this proclamation, be detrimental to the interests of the United States.

I therefore hereby proclaim that:

Section 1. The entry into the United States, as immigrants or nonimmigrants, of the following aliens is hereby suspended:

(a) Lebanese government officials, former Lebanese government officials, and private persons who deliberately undermine or harm Lebanon's sovereignty, its legitimate government, or its democratic institutions, or contribute to the breakdown in the rule of law in Lebanon, including through the sponsorship of terrorism, politically motivated violence or intimidation, or the reassertion of Syrian control in Lebanon;

(b) Syrian government officials, former Syrian government officials, and persons who meet the criteria for designation under section 3(a)(i) or (ii) of Executive Order 13338 of May 11, 2004, who deliberately undermine or harm Lebanon's sovereignty, its legitimate government, or its democratic institutions, or contribute to the breakdown in the rule of law in Lebanon, including through the sponsorship of terrorism, politically motivated violence or intimidation, or the reassertion of Syrian control in Lebanon;

(c) Persons in Lebanon who act on behalf of, or actively promote the interests of, Syrian government officials by deliberately undermining or harming Lebanon's sovereignty, its legitimate government, or its democratic institutions, or contribute to the breakdown in the rule of law in Lebanon, including through the sponsorship of terrorism, politically motivated violence or intimidation, or the reassertion of Syrian control in Lebanon;

(d) Persons who, through their business dealings with any of the persons described in subsection (a), (b), or (c) of this section, derive significant financial benefit from, or materially support, policies or actions that deliberately undermine or harm Lebanon's sovereignty, its legitimate government, or its democratic institutions, or contribute to the breakdown in the rule of law in Lebanon, including through the sponsorship of terrorism, politically motivated violence or intimidation, or the reassertion of Syrian control in Lebanon; and

(e) The spouses and dependent children of persons described in subsections (a), (b), (c), and (d) of this section.

Sec. 2. Section 1 of this proclamation shall not apply with respect to any person otherwise covered by section 1 where entry of such person would not be contrary to the interests of the United States.

Sec. 3. Persons covered by section 1 or 2 of this proclamation shall be identified by the Secretary of State or the Secretary's designee, in his or her sole discretion, pursuant to such procedures as the Secretary may establish under section 5 of this proclamation.

Sec. 4. Nothing in this proclamation shall be construed to derogate from U.S. Government obligations under applicable international agreements.

Sec. 5. The Secretary of State shall have responsibility for implementing this proclamation pursuant to such procedures as the Secretary, in the Secretary's sole discretion, may establish.

Sec. 6. This proclamation is effective immediately. It shall remain in effect until such time as the Secretary of State determines that it is no longer necessary and should be terminated, either in whole or in part. Any such determination by the Secretary of State shall be published in the Federal Register.

Sec. 7. This proclamation is not intended to, and does not, create any right, benefit, or privilege, substantive or procedural, enforceable at law or in equity, by any party against the United States, its departments, agencies, instrumentalities, or entities, its officers or employees, or any other person.

IN WITNESS WHEREOF, I have hereunto set my hand this twenty-eighth day of June, in the year of our Lord two thousand seven, and of the Independence of the United States of America the two hundred and thirty-first.

[FR Doc. 07-3275

Filed 7-2-07; 8:52 am]

Billing code 3195-01-P